SMALL BUSINESS ADMINISTRATION

[Declaration of Disaster #3590]

Commonwealth of Kentucky (Amendment #1)

In accordance with a notice received from the Department of Homeland Security—Federal Emergency Management Agency, effective June 18, 2004, the above numbered declaration is hereby amended to establish the incident period for this disaster as beginning on May 26, 2004 and continuing through June 18, 2004.

All other information remains the same, i.e., the deadline for filing applications for physical damage is August 9, 2004, and for economic injury the deadline is March 10, 2005.

(Catalog of Federal Domestic Assistance Program Nos. 59002 and 59008)

Dated: June 23, 2004.
Cheri L. Cannon,
Acting Associate Administrator for Disaster Assistance.

[FR Doc. 04-14714 Filed 6-28-04; 8:45 am]

BILLING CODE 8025-01-P